DEPARTMENT OF THE INTERIOR

Fish and Wildlife Service

[FWS-R8-ES-2008-N0296; 1112-000-81420-F2]

Habitat Conservation Plan for Pacific Gas & Electric Company's Operation, Maintenance, and Minor New Construction Activities in the North Coast, Central Coast, Sacramento Valley, and Sierra Regions, California

AGENCY: Fish and Wildlife Service, Interior.

ACTION: Notice of intent to prepare an environmental impact statement and notice of public scoping meetings.

SUMMARY: Pursuant to the National Environmental Policy Act (NEPA), we, the U.S. Fish and Wildlife Service (Service), are issuing this notice to advise the public that we intend to gather information necessary to prepare, in coordination with the California Department of Fish and Game (DFG) and Pacific Gas & Electric Company (PG&E), a joint Environmental Impact Statement/Environmental Impact Report (EIS/EIR) on the PG&E Multiple-Region (North Coast, Central Coast, Sacramento Valley, Sierra) Operations, Maintenance, and Minor New Construction Habitat Conservation Plan (HCP). The HCP is being prepared under Section 10(a)(1)(B) of the Federal Endangered Species Act of 1973, as amended (Act). PG&E intends to request a permit to cover 75 species federally listed as threatened or endangered and 34 unlisted species that may become listed during the term of the permit. The permit is needed to authorize incidental take of listed species that could occur as a result of implementing activities covered under the HCP.

The Service provides this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: We must receive your written comments on or before December 26, 2008. We will hold a public meeting on Thursday, December 4, 2008, 2 p.m. to 4 p.m., Sacramento CA.

A Web conference is scheduled for the same date as the public meeting, from 5 p.m. to 7 p.m. Conference Title: PG&E Multiple Region HCP EIS/EIR Scoping. In order to hear the audio for the conference, you must dial: 877-741-4242, and enter passcode: 1495039, for the operator or automated response system. If needed, dial 0 for technical assistance. First you must test your browser for compatibility at the following URL prior to the web event date: https://www112.livemeeting.com/cc/test2007/join?id=LiveMeeting2007Test&role=attend&cn=user&pw=&recording&_agreement=accepted&placewareLicenseCookie=true

Please note that this is only the browser check link and not the link to the actual event. Once you have successfully joined the test meeting, you may exit. Second, join conference 10 minutes prior to event start: https://www.livemeeting.com/cc/vcc/join?id=w1495039&role=attend&pw=A149503.If you have problems entering the conference using the above link, please type in the meeting URL: https://www119.livemeeting.com/cc/vcc/join and enter the Meeting ID: w1495039, and Entry Code: A149503, when prompted.

ADDRESSES: The public meeting will be held at the following location: Thursday, December 4, 2008, at the Evelyn Moore Community Center, 1402 Dickson Street, Sacramento, CA.

Information, written comments, or questions related to the preparation of the EIS/EIR and NEPA process should be submitted to Eric Tattersall, Chief, Conservation Planning and Recovery Division, U.S. Fish and Wildlife Service, Sacramento Fish and Wildlife Office, 2800 Cottage Way, W-2605, Sacramento, California 95825; Fax 916-414-6713.

FOR FURTHER INFORMATION CONTACT: Eric Tattersall, Chief, Conservation Planning and Recovery Division, at the Sacramento Fish and Wildlife Office at 916-414-6600.

SUPPLEMENTARY INFORMATION:

Reasonable Accommodation

Persons needing reasonable accommodations in order to attend and participate in the public meeting should contact Eric Tattersall at 916-414-6600 as soon as possible. In order to allow sufficient time to process requests, please submit them at least 1 week before the public meeting. Information regarding this proposed action is available in alternative formats upon request.

Background

Section 9 of the Act and Federal regulations prohibit the “take” of fish and wildlife species listed as endangered or threatened. Under the Act, the following activities are defined as take: To harass, harm, pursue, hunt, shoot, wound, kill, trap, capture or collect listed animal species, or attempt to engage in such conduct [16 U.S.C. 1532(19)]. However, under Section 10(a) of the Act, we may issue permits to authorize “incidental take” of listed species. “Incidental take” is defined by the Act as take that is incidental to, and not the purpose of, carrying out an otherwise lawful activity. Regulations governing permits for threatened species and endangered species, respectively, are at 50 CFR 17.32 and 50 CFR 17.22.

Take of listed plant species is not prohibited under the Act and cannot be authorized under a Section 10(a)(1)(B) permit. However, plant species may be included on a permit in recognition of conservation benefits provided for them under the HCP. All species included on the permit would receive assurances under the Service's “No Surprises” regulation 50 CFR 17.22(b)(5) and 17.32(b)(5).

Currently, PG&E intends to request a permit for 109 species under the HCP: 75 listed and 34 unlisted species (covered species) (Table 1). This proposed species list may change during the development of the HCP. Specific PG&E regions in the Plan Area are abbreviated as follows: CC = Central Coast, NC = North Coast, S = Sierra, and SV = Sacramento Valley. Categories of listing status (Federal, under the Act) are abbreviated as follows: N = not listed, D = de-listed, C = candidate, T = threatened, and E = endangered.

Table 1—Proposed Covered Species
Species | PG&E regions: CC | PG&E regions: NC | PG&E regions: S | PG&E regions: SV | Listing status *
Invertebrates
Conservancy fairy shrimp (Branchinecta conservatio) |  |  |  | X | E
Vernal pool fairy shrimp (Branchinecta lynchi) | X |  |  | X | T
Ohlone tiger beetle (Cicindela ohlone) | X |  |  |  | E
Valley elderberry longhorn beetle (Desmocerus californicus dimorphus) |  |  |  | X | T
Smith's blue butterfly (Euphilotes enoptes smithi) | X |  |  |  | E
Kern primrose sphinx moth (Euproserpinus euterpe) | X |  |  |  | T
Morro shoulderband snail (Helminthoglypta walkeriana) | X |  |  |  | E
Vernal pool tadpole shrimp (Lepidurus packardi) | X |  |  | X | E
Lotis blue butterfly (Lycaeides argyrognomon lotis) |  | X |  |  | E
Shasta crayfish (Pacifastacus fortis) |  | X |  |  | E
Mount Hermon June beetle (Polyphylla barbata) | X |  |  |  | E
Behren's silverspot butterfly (Speyeria zerene behrensii) |  | X |  |  | E
Zayante band-winged grasshopper (Trimerotropis infantilis) | X |  |  |  | E
Amphibians:
California tiger salamander—Central California Distinct Population Segment (Ambystoma californiense) |  |  | X | X | T
California tiger salamander—Santa Barbara County Distinct Population Segment (Ambystoma californiense) | X |  |  |  | E
Santa Cruz long-toed salamander (Ambystoma macrodactylum croceum) | X |  |  |  | E
Tehachapi slender salamander (Batrachoseps stebbinsi) | X |  |  |  | N
Arroyo toad (Bufo californicus) | X |  |  |  | E
Shasta salamander (Hydromantes shastae) |  | X |  | X | N
California red-legged frog (Rana aurora draytonii) | X | X | X | X | T
Foothill yellow-legged frog (Rana boylii) |  | X |  | X | N
Mountain yellow-legged frog (Rana muscosa) |  |  | X |  | C
Southern torrent salamander (Rhyacotriton variegatus) |  | X |  |  | N
Reptiles:
Western pond turtle (Clemmys<Actinemys> marmorata) | X | X |  | X | N
Blunt-nosed leopard lizard (Gambelia silus) | X |  |  |  | E
Giant garter snake (Thamnophis gigas) |  |  |  | X | T
Birds:
Tricolored blackbird (Agelaius tricolor) | X | X | X | X | N
Golden eagle (Aquila chrysaetos) | X | X | X | X | N
Western burrowing owl (Athene cunicularia) | X |  |  | X | N
Marbled murrelet (Brachyramphus marmoratus) | X | X |  |  | T
Swainson's hawk (Buteo swainsoni) |  |  |  | X | N
Western snowy plover—Pacific Coast Population (Charadrius alexandrinus nivosus) | X | X |  |  | T
Western yellow-bill cuckoo (Coccyzus americanus occidentalis) | X |  |  | X | C
Willow flycatcher (Empidonax traillii) | X |  |  | X | N
Southwestern willow flycatcher (Empidonax traillii extimus) | X |  |  |  | E
American peregrine falcon (Falco peregrinus anatum) | X | X | X | X | D
Bald eagle (Haliaeetus leucocephalus) | X | X | X | X | D
California black rail (Laterallus jamaicensis coturniculus) | X | X |  | X | N
California brown pelican (Pelecanus occidentalis californicus) | X |  |  |  | E**
Purple martin (Progne subis) |  |  |  | X | N
California clapper rail (Rallus longirostris obsoletus) | X | X |  | X | E
Great gray owl (Strix nebulosa) |  | X | X | X | N
Northern spotted owl (Strix occidentalis caurina) |  | X |  | X | T
Least Bell's vireo (Vireo bellii pusillus) | X |  |  |  | E
Mammals:
San Joaquin antelope ground squirrel (Ammospermophilus nelsoni) | X |  |  |  | N
Point Arena mountain beaver (Aplodontia rufa nigra) |  | X |  |  | E
Giant kangaroo rat (Dipodomys ingens) | X |  |  |  | E
Fisher—West Coast Distinct Population Segment (Martes pennanti) |  | X | X | X | C
San Joaquin kit fox (Vulpes macrotis mutica) | X |  |  | X | E
Plants:
McDonald's rock-cress (Arabis mcdonaldiana) |  | X |  |  | E
Hearst's Manzanita (Arctostaphylos hookeri ssp. hearstiorum) | X |  |  |  | N
Morro Manzanita (Arctostaphylos morroensis) | X |  |  |  | T
Marsh sandwort (Arenaria paludicola) | X |  |  |  | E
Coastal dunes milk-vetch (Astragalus tener var. titi) | X |  |  |  | E
San Benito evening-primrose (Camissonia benitensis) | X |  |  |  | T
California jewel-flower (Caulanthus californicus) | X |  |  |  | E
Hearst's ceanothus (Ceanothus hearstiorum) | X |  |  |  | N
Maritime ceanothus (Ceanothus maritimus) | X |  |  |  | N
Purple amole (Chlorogalum purpureum)—includes both Chlorogalum purpureum var. purpureum and Chlorogalum purpureum var. reductum | X |  |  |  | T
Howell's spineflower (Chorizanthe howellii) |  | X |  |  | E
Ben Lomond spineflower (Chorizanthe pungens var. hartwegiana) | X |  |  |  | E
Monterey spineflower (Chorizanthe pungens var. pungens) | X |  |  |  | T
Scott's Valley spineflower (Chorizanthe robusta var. hartwegii) | X |  |  |  | E
Robust spineflower (Chorizanthe robusta var. robusta) | X |  |  |  | E
Chorro Creek bog thistle (Cirsium fontinale var. obispoense) | X |  |  |  | E
La Graciosa thistle (Cirsium loncholepis) | X |  |  |  | E
Pismo clarkia (Clarkia speciosa ssp. immaculata) | X |  |  |  | E
Salt marsh bird's-beak (Cordylanthus maritimus ssp. maritimus) | X |  |  |  | E
Palmate-bracted bird's beak (Cordylanthus palmatus) |  |  |  | X | E
Seaside bird's-beak (Cordylanthus rigidus ssp. littoralis) | X |  |  |  | N
Santa Cruz cypress (Cupressus abramsiana) | X |  |  |  | E
Gowen cypress (Cupressus goveniana ssp. goveniana) | X |  |  |  | T
Gaviota tarplant (Deinandra increscens ssp. villosa) | X |  |  |  | E
Indian Knob mountain balm (Eriodictyon altissimum) | X |  |  |  | E
Lompoc yerba santa (Eriodictyon capitatum) | X |  |  |  | E
Butterworth's buckwheat (Eriogonum butterworthianum) | X |  |  |  | N
Red Mountain (Kelloggs') buckwheat (Eriogonum kelloggii) |  | X |  |  | C
Loch Lomond button-celery (Eryngium constancei) |  | X |  |  | E
Menzies' wallflower (Erysimum menziesii)—includes both
Erysimum menziesii ssp. eurekense and Erysimum menziesii ssp. yadonii |  | X |  |  | E
Santa Cruz wallflower (Erysimum teretifolium) | X |  |  |  | E
Monterey gilia (Gilia tenuiflora ssp. arenaria) | X |  |  |  | E
Santa Cruz tarplant (Holocarpha macradenia) | X |  |  |  | T
Burke's goldfields (Lasthenia burkei) |  | X |  |  | E
Contra Costa goldfields (Lasthenia conjugens) |  | X |  | X | E
Beach layia (Layia carnosa) |  | X |  | X | E
Western lily (Lilium occidentale) |  | X |  |  | E
Nipomo Mesa lupine (Lupinus nipomensis) | X |  |  |  | E
Tidestrom's (clover) lupine (Lupinus tidestromii) | X |  |  |  | E
San Joaquin woolly-threads (Monolopia congdonii) | X |  |  |  | E
Few-flowered navarretia (Navarretia leucocephala ssp. pauciflora) |  | X |  |  | E
Many-flowered navarretia (Navarretia leucocephala ssp. plieantha) |  | X |  |  | E
Lake County stonecrop (Parvisedum leiocarpum) |  | X |  |  | E
Dudley's lousewort (Pedicularis dudleyi) | X |  |  |  | N
White-rayed pentachaeta (Pentachaeta bellidiflora) | X |  |  |  | E
Yadon's piperia (Piperia yadonii) | X |  |  |  | E
San Francisco popcorn-flower (Plagiobothrys diffusus) | X |  |  |  | N
Santa Lucia mint (Pogogyne clareana) | X |  |  |  | N
Scott's Valley polygonum (Polygonum hickmanii) | X |  |  |  | E
Hickman's cinquefoil (Potentilla hickmanii) | X |  |  |  | E
Gambel's watercress (Rorippa gambellii) | X |  |  |  | E
Adobe sanicle (Sanicula maritime) | X |  |  |  | N
Red Mountain stonecrop (Sedum eastwoodiae) |  | X |  |  | C
Cuesta Pass checkerbloom (Sidalcea hickmanii ssp. anomala) | X |  |  |  | N
Parish's checkerbloom (Sidalcea hickmanii ssp. parishii) | X |  |  |  | C
California seablite (Suaeda californica) | X |  |  |  | E
Santa Ynez false lupine (Thermopsis macrophylla) | X |  |  |  | N
Kneeland Prairie penny-cress (Thlaspi californicum) |  | X |  |  | E
Pacific Grove clover (Trifolium polyodon) | X |  |  |  | N
Monterey clover (Trifolium trichocalyx) | X |  |  |  | E
Notes:
* Species with listing status of D or N are included in the Plan as covered species, in case they become listed during the course of the HCP.
** The California brown pelican was proposed for delisting by the Service on February 20, 2008 (73 FR 9408).

The Plan Area includes approximately 550,000 acres and includes the right-of-way surrounding gas and electric transmission and distribution facilities, the lands owned by PG&E and/or subject to PG&E easements for these facilities, private access routes associated with PG&E's activities, future minor new construction areas, and mitigation areas for impacts resulting from PG&E's activities. The Plan Area includes the network of PG&E facilities in 36 counties, including 18 counties within the Sacramento Valley region, 20 counties within the Sierra region (of which 12 overlap with Sacramento Valley), 6 counties within the Central Coast region, and 4 counties within the North Coast region. The Sacramento Valley region includes the following counties: Tuolumne, Calaveras, Amador, Sacramento, Yolo, Sutter, Butte, Glenn, Yuba, El Dorado, Placer, Nevada, Sierra, Plumas, Colusa, Tehama, Trinity, and Shasta. The counties within the Sierra region include: Modoc, Siskiyou, Lassen, Shasta, Tehama, Butte, Plumas, Sierra, Nevada, Placer, Yuba, El Dorado, Amador, Calaveras, Alpine, Tuolumne, Mariposa, Madera, Fresno, and Tulare. The Central Coast region consists of the following counties: Santa Cruz, San Benito, Monterey, San Luis Obispo, Santa Barbara, and Kern. The North Coast region consists of the following counties: Humboldt, Trinity, Mendocino, and Lake.

Activities that may be covered under the HCP include a variety of tasks associated with the operation, maintenance, and minor new construction of PG&E's gas and electric transmission and distribution system, as mandated for public safety by the California Public Utilities Commission, the California Energy Commission, and the California Department of Transportation. More specifically, these activities may include: gas pipeline protection, recoating, repair, and replacement; electric line protection, repair, reconductoring, and replacement; electric pole repair/replacement; vegetation management to maintain clearances around facilities; and minor construction for new gas and electric extensions. The HCP would not cover operation, maintenance, or construction of power generation facilities. The Service, DFG, and PG&E are now considering components of a conservation program in the HCP. These components would include measures to avoid, minimize, and mitigate take, such as preservation, restoration, and enhancement of habitat. The HCP will also include measures for monitoring and adaptive management. This conservation program would focus on providing long-term protection of covered species by protecting biological communities in the Plan Area. The Service anticipates that PG&E will request a permit duration of 50 years.

Environmental Impact Statement/Report

The joint document will be prepared in compliance with NEPA and the California Environmental Quality Act (CEQA). The Service and DFG will prepare the EIS/EIR, the Service will be responsible for the scope and content of the document for NEPA purposes, and DFG will be responsible for the scope and content of the CEQA document, as the State lead agency pursuant to CEQA and the permitting entity pursuant to the California Endangered Species Act and Fish and Game Code 2081.

The EIS/EIR will consider the proposed action (i.e., the issuance of a Section 10(a)(1)(B) permit under the Act based on the proposed HCP) and a reasonable range of alternatives. A detailed description of the proposed action and alternatives will be included in the EIS/EIR. It is anticipated that several alternatives will be developed, which may vary by the level of conservation, impacts caused by the proposed activities, permit area, covered species, or a combination of these factors. Additionally, a No Action alternative will be considered. Under the No Action alternative, the Service would not issue a Section 10(a)(1)(B) permit.

The EIS/EIR will also identify potentially significant impacts on land use and planning, agricultural resources, biological resources, aesthetics, geology and soils, water resources, cultural resources, transportation and circulation, noise and vibration, air quality, public health/environmental hazards, recreation, environmental justice, socioeconomics, and other environmental issues that could occur directly or indirectly with implementation of the proposed action and alternatives. For all potentially significant impacts, the EIS/EIR will identify mitigation measures, where feasible, to reduce these impacts to a level below significance.

This notice of intent is being furnished in accordance with 40 CFR Sections 1501.2, 1501.7, 1506.6, and 1508.22 to obtain suggestions, comments, and useful information from other agencies and the public on the scope of the proposed EIS/EIR, including the significant environmental issues deserving of study, the range of actions, the range of alternatives, and the range of impacts to be considered. Written comments from interested parties are invited to ensure that all issues related to the proposed Section 10(a)(1)(B) incidental take permit application are identified. Comments will only be accepted in written form. You may submit written comments by mail, facsimile transmission, or in person (see ADDRESSES). Before including your address, phone number, e-mail address, or other personal identifying information in your comment, you should be aware that your entire comment—including your personal identifying information—may be made publicly available at any time. While you can ask us in your comment to withhold your personal identifying information from public review, we cannot guarantee that we will be able to do so.

Dated: November 18, 2008.
Richard E. Sayers,
Acting Deputy Regional Director, California and Nevada Region, Sacramento, California.

[FR Doc. E8-27925 Filed 11-24-08; 8:45 am]

BILLING CODE 4310-55-P